DEPARTMENT OF DEFENSE

Office of the Secretary

[Transmittal Nos. 12-19]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-19 with attached transmittal, policy justification, and Sensitivity of Technology.

Dated: June 19, 2012.
Aaron Siegel,
Alternate OSD Federal Register Liaison Officer, Department of Defense.

BILLING CODE 5001-06-P

BILLING CODE 5001-06-C

Transmittal No. 12-19

Notice of Proposed Issuance of Letter of Offer Pursuant to Section 36(b)(1) of the Arms Export Control Act, as amended

(i) Prospective Purchaser: Oman.

(ii) Total Estimated Value:

Major Defense Equipment * | $67 million
Other | 19 million
Total | 86 million
* As defined in Section 47(6) of the Arms Export Control Act.

(iii) Description and Quantity or Quantities of Articles or Services under Consideration for Purchase: 55 AIM-9X Block II SIDEWINDER All-Up-Round Missiles, 36 AIM-9X Block II SIDEWINDER Captive Air Training Missiles, 6 AIM-9X Block II Tactical Guidance Units, 4 AIM-9X Block II Captive Air Training Missile Guidance Units, 1 Dummy Air Training Missile, containers, weapon support equipment, spare and repair parts, publications and technical documentation, personnel training and training equipment, U.S. Government and contractor technical support services, and other related elements of logistics support.

(iv) Military Department: Navy (LAN).

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: 12 June 2012.

Policy Justification

Oman—AIM-9X Block II SIDEWINDER All-Up-Round Missiles

The Government of Oman has requested a possible sale of 55 AIM-9X Block II SIDEWINDER All-Up-Round Missiles, 36 AIM-9X Block II SIDEWINDER Captive Air Training Missiles, 6 AIM-9X Block II Tactical Guidance Units, 4 AIM-9X Block II Captive Air Training Missile Guidance Units, 1 Dummy Air Training Missile, containers, weapon support equipment, spare and repair parts, publications and technical documentation, personnel training and training equipment, U.S. Government and contractor technical support services, and other related elements of logistics support. The estimated cost is $86 million.

This proposed sale will contribute to the foreign policy and national security of the United States by helping to improve the security of a friendly country which has been, and continues to be, an important force for political stability and economic progress in the Middle East.

The Government of Oman is modernizing its F-16 fighter aircraft fleet to better support its own air defense needs. The proposed sale of AIM-9X Block II missiles will provide a significant increase in Oman's defensive capability while enhancing interoperability with the U.S. and other allies. Oman will have no difficulty absorbing this additional capability into its armed forces.

The proposed sale of this weapon system and support will not alter the basic military balance in the region.

The prime contractors will be Raytheon Missile Systems in Tucson, Arizona. There are no offset agreements proposed in connection with this potential sale.

Implementation of this proposed sale will require multiple trips to Oman involving U.S. Government or contractor representatives on a temporary basis for program and technical support, and management oversight. There are no known offset agreements proposed in connection with this potential sale.

There will be no adverse impact on U.S. defense readiness as a result of this proposed sale.

Transmittal No. 12-19

Notice of Proposed Issuance of Letter of Offer Pursuant to Section 36(b)(1) of the Arms Export Control Act, as amended

Annex

Item No. vii

(vii) Sensitivity of Technology:

1. The AIM-9X-2 Sidewinder Block II missile represents a substantial increase in missile acquisition and kinematics performance over the AIM-9M and replaces the AIM-9X-1 Block I missile configuration. The missile includes a high off bore-sight seeker, enhanced countermeasure rejection capability, low drag/high angle of attack airframe and the ability to integrate the Helmet Mounted Cueing System. The software algorithms are the most sensitive portion of the AIM-9X-2 missile. The software continues to be modified via a pre-planned product improvement (P³I) program in order to improve its counter-counter measures capabilities. No software source code or algorithms will be released. The missile is classified as Confidential.

2. The possible sale of the AIM-9X-2 missile will result in the transfer of sensitive technology and information, as well as classified and unclassified defense equipment and technology and information, as well as classified and unclassified defense equipment and technical data. The equipment/hardware and documentation are classified Confidential; software and operational/performance are classified Secret with training and maintenance being Unclassified. The external view of the AIM-9X-2 missile is Unclassified and not sensitive. The seeker/guidance control section and the target detector are Confidential and contain sensitive state-of-the-art technology. Specifically, the infrared seeker sensitivity is a significant improvement over the previous AIM-9 variants. Manuals and technical documents for the AIM-9X-2 missile that are necessary or support operational use and organizational maintenance have portions classified up to Secret. Performance and operating logic of the counter-counter measures circuits are Secret. The hardware, software, and data identified are classified to protect vulnerabilities, design and performance parameters and similar critical information.

3. If a technologically advanced adversary were to obtain knowledge of the specific hardware and software elements, the information could be used to develop countermeasures which might reduce weapons systems effectiveness or be used in the development of a system with similar or advanced capabilities.

[FR Doc. 2012-15360 Filed 6-22-12; 8:45 am]

BILLING CODE 5001-06-P